DEPARTMENT OF COMMERCE

International Trade Administration

[A-570-900]

Diamond Sawblades and Parts Thereof From the People's Republic of China: Final Results of Antidumping Duty Changed Circumstances Review

AGENCY: Enforcement and Compliance, International Trade Administration, Department of Commerce.

SUMMARY: On March 3, 2016, the Department of Commerce (the Department) published a notice of initiation and preliminary results of a changed circumstances review of the antidumping duty order on diamond sawblades and parts thereof (diamond sawblades) from the People's Republic of China (the PRC).¹ In that notice, we preliminarily determined that Wuhan Wanbang Laser Diamond Tools Co., Ltd. (Wuhan Wanbang Co., Ltd.) is the successor-in-interest to Wuhan Wanbang Laser Diamond Tools Co. (Wuhan Wanbang Co.) for purposes of determining antidumping duty cash deposits and liabilities.² No interested party submitted comments on or requested a public hearing to discuss the Initiation and Preliminary Results. For these final results, the Department continues to find that Wuhan Wanbang Co., Ltd. is the successor-in-interest to Wuhan Wanbang Co.

¹ See Diamond Sawblades and Parts Thereof From the People's Republic of China: Initiation and Preliminary Results of Changed Circumstances Review, 81 FR 11177 (March 3, 2016) (Initiation and Preliminary Results).

² Id.

DATES: Effective Date: April 8, 2016.

FOR FURTHER INFORMATION CONTACT: Yang Jin Chun AD/CVD Operations, Office I, Enforcement and Compliance, International Trade Administration, U.S. Department of Commerce, 1401 Constitution Avenue NW., Washington, DC 20230; telephone: (202) 482-5760.

SUPPLEMENTARY INFORMATION:

Background

Effective May 4, 2015, Wuhan Wanbang Co. (1) changed its legal status from a limited liability company to a joint-stock limited company and (2) changed its name to Wuhan Wanbang Laser Diamond Tools Co., Ltd.³ On December 22, 2015, Wuhan Wanbang Co., Ltd. requested that the Department initiate an expedited changed circumstances review and determine that Wuhan Wanbang Co., Ltd. is the successor-in-interest to Wuhan Wanbang Co.

³ See Wuhan Wanbang Co., Ltd.'s request for a changed circumstances review dated December 22, 2015.

On March 3, 2016, we initiated this changed circumstances review and preliminarily determined that Wuhan Wanbang Co., Ltd. is the successor-in-interest to Wuhan Wanbang Co.⁴ In the Initiation and Preliminary Results, we provided all interested parties with an opportunity to comment or request a public hearing regarding our preliminary results. We received no comments or requests for a public hearing.

⁴ See Initiation and Preliminary Results.

Scope of the Order

The products covered by the order are all finished circular sawblades, whether slotted or not, with a working part that is comprised of a diamond segment or segments, and parts thereof, regardless of specification or size, except as specifically excluded below. Within the scope of the order are semifinished diamond sawblades, including diamond sawblade cores and diamond sawblade segments. Diamond sawblade cores are circular steel plates, whether or not attached to non-steel plates, with slots. Diamond sawblade cores are manufactured principally, but not exclusively, from alloy steel. A diamond sawblade segment consists of a mixture of diamonds (whether natural or synthetic, and regardless of the quantity of diamonds) and metal powders (including, but not limited to, iron, cobalt, nickel, tungsten carbide) that are formed together into a solid shape (from generally, but not limited to, a heating and pressing process).

Sawblades with diamonds directly attached to the core with a resin or electroplated bond, which thereby do not contain a diamond segment, are not included within the scope of the order. Diamond sawblades and/or sawblade cores with a thickness of less than 0.025 inches, or with a thickness greater than 1.1 inches, are excluded from the scope of the order. Circular steel plates that have a cutting edge of non-diamond material, such as external teeth that protrude from the outer diameter of the plate, whether or not finished, are excluded from the scope of the order. Diamond sawblade cores with a Rockwell C hardness of less than 25 are excluded from the scope of the order. Diamond sawblades and/or diamond segment(s) with diamonds that predominantly have a mesh size number greater than 240 (such as 250 or 260) are excluded from the scope of the order. Merchandise subject to the order is typically imported under heading 8202.39.00.00 of the Harmonized Tariff Schedule of the United States (HTSUS). When packaged together as a set for retail sale with an item that is separately classified under headings 8202 to 8205 of the HTSUS, diamond sawblades or parts thereof may be imported under heading 8206.00.00.00 of the HTSUS. On October 11, 2011, the Department included the 6804.21.00.00 HTSUS classification number to the customs case reference file, pursuant to a request by U.S. Customs and Border Protection (CBP).⁵ The tariff classification is provided for convenience and customs purposes; however, the written description of the scope of the order is dispositive.

⁵ See Diamond Sawblades and Parts Thereof From the Republic of Korea: Preliminary Results of Antidumping Duty Administrative Review, 76 FR 76128, 76130 (December 6, 2011).

Final Results of Changed Circumstances Review

For the reasons stated in the Initiation and Preliminary Results, and because we received no comments from interested parties to the contrary, we continue to find that Wuhan Wanbang Co., Ltd. is the successor-in-interest to Wuhan Wanbang Co.⁶ As a result of this determination, we find that Wuhan Wanbang Co., Ltd. should receive the cash deposit rate previously assigned to Wuhan Wanbang Co. in the most recently completed administrative review of the antidumping duty order on diamond sawblades from the PRC.⁷ Consequently, the Department will instruct U.S. Customs and Border Protection to suspend liquidation of all shipments of subject merchandise exported by Wuhan Wanbang Co., Ltd., and entered, or withdrawn from warehouse, for consumption on or after the publication date of this notice in the Federal Register at 2.34 percent, which is the current antidumping duty cash deposit rate for Wuhan Wanbang Co.⁸ This cash deposit requirement shall remain in effect until further notice.

⁶ See Initiation and Preliminary Results, 81 FR at 11778-79.

⁷ See, e.g., Notice of Final Results of Antidumping Duty Changed Circumstances Review: Certain Frozen Warmwater Shrimp From Thailand, 81 FR 222 (January 5, 2016).

⁸ See Diamond Sawblades and Parts Thereof From the People's Republic of China; Final Results of Antidumping Duty Administrative Review; 2012-2013, 80 FR 32344, 32345 (June 8, 2015).

This notice of final results is in accordance with sections 751(b)(1) and 777(i)(1) and (2) of the Tariff Act of 1930, as amended, and 19 CFR 351.216, and 19 CFR 351.221(c)(3).

Dated: April 1, 2016.
Paul Piquado,
Assistant Secretary for Enforcement and Compliance.

[FR Doc. 2016-08141 Filed 4-7-16; 8:45 am]

BILLING CODE 3510-DS-P